DEPARTMENT OF ENERGY

Federal Energy Regulatory Commission

[Project No. 2985-004]

MeadWestvaco; Notice of Change in Applicant's Proposal Concerning the Redevelopment of the Willow Mill Hydroelectric Project

February 9, 2007.

a. Type of Filing: Notice of Intent (NOI) to File Application for a New License and Commencing Licensing Proceeding.

b. Project No.: 2985-004.

c. Dated Filed: April 14, 2006.

d. Applicant: MeadWestvaco.

e. Name of Project: Willow Mill Hydroelectric Project.

f. Location: On the Housatonic River in Berkshire County, Massachusetts. The project does not occupy federal lands.

g. Filed Pursuant to: 18 CFR Part 5 of the Commission's Regulations.

h. Applicant Contact: Mr. Robert Miller, MeadWestvaco, 547A Sissonville Road, Potsdam, NY 13676, (315) 267-5609.

i. FERC Contact: Kristen Murphy, (202) 502-6236, or via e-mail at kristen.murphy@ferc.gov.

j. The Willow Mill Project includes: a 14-foot-high, 150-foot-wide stone masonry gravity dam; an impoundment of approximately 11 surface acres; a 10-foot-deep, 18-foot-wide rubble and masonry canal that runs approximately 50 feet to a 10-foot-deep, 18-foot wide, 260-foot long rubble and masonry underground headrace; two steel penstocks, one leading to a 100-kW unit, the other leading to a 360-kW unit. The two generating units are located in the basement of MeadWestvaco's paper mill, and release flow to an 8-foot-wide underground tailrace that reconnects to the Housatonic River approximately 700 feet downstream from Willow Mill Dam. The 360-kW unit has not been operated since 1966. The 100-kW unit ceased operating in 2005.

k. In its PAD, MeadWestvaco stated it was evaluating its options relative to rehabilitating the 100 kW unit, or potentially increasing the overall hydraulic capacity of the facility. Pursuant to 18 CFR 5.11, MeadWestvaco filed a Proposed Study Plan on September 26, 2006. The plan included a Hydropower Redevelopment Study to evaluate the feasibility of rehabilitating the existing facility, replacing the generator units with newer models, or expanding the overall facility capacity. In its Revised Study Plan, filed January 23, 2007, MeadWestvaco withdrew the Hydropower Redevelopment Study proposal. Rather, MeadWestvaco now states that it will rehabilitate the 100-kW unit during 2007, and otherwise has no plans to upgrade or expand the project.

l. Pursuant to 18 CFR 16.7, information on the project is available at: Ms. Patricia C. Begrowicz, MeadWestvaco, 40 Willow Street, South Lee, MA 01260.

m. Willow Mill Project information is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. Copies are also available for inspection and reproduction at the address in paragraph m.

n. Register online at http://ferc.gov/esubscribenow.htm to be notified via e-mail of new filing and issuances related to this or other pending projects. For assistance, contact FERC Online Support.

Magalie R. Salas,
Secretary.

[FR Doc. E7-2702 Filed 2-15-07; 8:45 am]

BILLING CODE 6717-01-P